DEPARTMENT OF ENERGY

Federal Energy Regulatory Commission

Combined Notice of Filings #1

Take notice that the Commission received the following electric corporate filings:

Docket Numbers: EC19-99-000.

Applicants: Empire Generating Co, LLC.

Description: Amendment to June 4, 2019 Application for Authorization Under Section 203 of the Federal Power Act, et al. of Empire Generating Co, LLC.

Filed Date: 6/17/19.

Accession Number: 20190617-5207.

Comments Due: 5 p.m. ET 7/8/19.

Docket Numbers: EC19-102-000.

Applicants: Lyonsdale Biomass, LLC, ReEnergy Ashland LLC, ReEnergy Black River LLC, ReEnergy Fort Fairfield LLC, ReEnergy Livermore Falls LLC, ReEnergy Stratton LLC.

Description: Joint Application for Authorization Under Section 203 of the Federal Power Act, et al. of Lyonsdale Biomass, LLC, et al.

Filed Date: 6/17/19.

Accession Number: 20190617-5213.

Comments Due: 5 p.m. ET 7/8/19.

Take notice that the Commission received the following exempt wholesale generator filings:

Docket Numbers: EG19-133-000.

Applicants: Cubico Palmetto Lessee, LLC.

Description: Notice of Self Certification of Exempt Wholesale Generator Request of Cubico Palmetto Lessee, LLC.

Filed Date: 6/18/19.

Accession Number: 20190618-5042.

Comments Due: 5 p.m. ET 7/9/19.

Docket Numbers: EG19-134-000.

Applicants: Palmetto Plains Solar Project, LLC.

Description: Notice of Self-Certification of Exempt Wholesale Generator of Palmetto Plains Solar Project, LLC.

Filed Date: 6/18/19.

Accession Number: 20190618-5045.

Comments Due: 5 p.m. ET 7/9/19.

Take notice that the Commission received the following electric rate filings:

Docket Numbers: ER10-2238-009; ER10-2239-009; ER10-2237-009; ER12-896-005; ER14-1818-019; ER19-1577-001.

Applicants: Indigo Generation LLC, Larkspur Energy LLC, Wildflower Energy LP, Mariposa Energy, LLC, Boston Energy Trading and Marketing LLC, Kearny Mesa Storage, LLC.

Description: Triennial Updated Market Power Analysis for the Southwest Region of the DGC Southwest Sellers.

Filed Date: 6/17/19.

Accession Number: 20190617-5218.

Comments Due: 5 p.m. ET 8/16/19.

Docket Numbers: ER10-2487-005; ER15-2380 003.

Applicants: Pacific Summit Energy LLC.

Description: Supplement to April 1, 2019 Notice of Change in Status of Pacific Summit Energy LLC, et al.

Filed Date: 6/17/19.

Accession Number: 20190617-5209.

Comments Due: 5 p.m. ET 7/8/19.

Docket Numbers: ER19-2167-000.

Applicants: Midcontinent Independent System Operator, Inc.

Description: § 205(d) Rate Filing: 2019-06-17_SA 3223 Richland Wind-MidAmerican 1st Rev GIA Supplement (J535) to be effective 6/3/2019.

Filed Date: 6/17/19.

Accession Number: 20190617-5096.

Comments Due: 5 p.m. ET 7/8/19.

Docket Numbers: ER19-2173-000.

Applicants: ITC Midwest LLC.

Description: § 205(d) Rate Filing: Filing of 4th A&R OGS Unit 1 Facilities and Operating Agreement to be effective 6/27/2019.

Filed Date: 6/17/19.

Accession Number: 20190617-5163.

Comments Due: 5 p.m. ET 7/8/19.

Docket Numbers: ER19-2174-000.

Applicants: Sierra Pacific Power Company.

Description: Tariff Cancellation: Rate Schedule No. 66 SPPC & Liberty EPC Cancellation to be effective 8/17/2019.

Filed Date: 6/17/19.

Accession Number: 20190617-5165.

Comments Due: 5 p.m. ET 7/8/19.

Docket Numbers: ER19-2175-000.

Applicants: PJM Interconnection, L.L.C.

Description: § 205(d) Rate Filing: Second Revised ISA, SA No. 2178, Queue No. AC2-125/AC2-126 to be effective 5/17/2019.

Filed Date: 6/17/19.

Accession Number: 20190617-5172.

Comments Due: 5 p.m. ET 7/8/19.

Docket Numbers: ER19-2176-000.

Applicants: Sierra Pacific Power Company.

Description: Tariff Cancellation: Rate Schedule No. 71—CalPeco & SPPC 609 Line Agreement Cancellation to be effective 8/17/2019.

Filed Date: 6/17/19.

Accession Number: 20190617-5174.

Comments Due: 5 p.m. ET 7/8/19.

Docket Numbers: ER19-2177-000.

Applicants: Alta Wind I, LLC.

Description: § 205(d) Rate Filing: Revisions to Market-Based Rate Tariff and Requests for Waivers to be effective 6/18/2019.

Filed Date: 6/17/19.

Accession Number: 20190617-5176.

Comments Due: 5 p.m. ET 7/8/19.

Docket Numbers: ER19-2178-000.

Applicants: Alta Wind II, LLC.

Description: § 205(d) Rate Filing: Revisions to Market-Based Rate Tariff and Requests for Waivers to be effective 6/18/2019.

Filed Date: 6/17/19.

Accession Number: 20190617-5177.

Comments Due: 5 p.m. ET 7/8/19.

Docket Numbers: ER19-2179-000.

Applicants: Alta Wind III, LLC.

Description: § 205(d) Rate Filing: Revisions to Market-Based Rate Tariff and Requests for Waivers to be effective 6/18/2019.

Filed Date: 6/17/19.

Accession Number: 20190617-5178.

Comments Due: 5 p.m. ET 7/8/19.

Docket Numbers: ER19-2180-000.

Applicants: Alta Wind IV, LLC.

Description: § 205(d) Rate Filing: Revisions to Market-Based Rate Tariff and Requests for Waivers to be effective 6/18/2019.

Filed Date: 6/17/19.

Accession Number: 20190617-5182.

Comments Due: 5 p.m. ET 7/8/19.

Docket Numbers: ER19-2181-000.

Applicants: Alta Wind V, LLC.

Description: § 205(d) Rate Filing: Revisions to Market-Based Rate Tariff and Requests for Waivers to be effective 6/18/2019.

Filed Date: 6/17/19.

Accession Number: 20190617-5189.

Comments Due: 5 p.m. ET 7/8/19.

Docket Numbers: ER19-2182-000.

Applicants: Alta Wind X, LLC.

Description: § 205(d) Rate Filing: Revisions to Market-Based Rate Tariff and Requests for Waivers to be effective 6/18/2019.

Filed Date: 6/17/19.

Accession Number: 20190617-5190.

Comments Due: 5 p.m. ET 7/8/19.

Docket Numbers: ER19-2183-000.

Applicants: Alta Wind XI, LLC.

Description: § 205(d) Rate Filing: Revisions to Market-Based Rate Tariff and Requests for Waivers to be effective 6/18/2019.

Filed Date: 6/17/19.

Accession Number: 20190617-5191.

Comments Due: 5 p.m. ET 7/8/19.

Docket Numbers: ER19-2184-000.

Applicants: Carlsbad Energy Center LLC.

Description: § 205(d) Rate Filing: Revisions to Market-Based Rate Tariff and Requests for Waivers to be effective 6/18/2019.

Filed Date: 6/17/19.

Accession Number: 20190617-5192.

Comments Due: 5 p.m. ET 7/8/19.

Docket Numbers: ER19-2185-000.

Applicants: El Segundo Energy Center LLC.

Description: § 205(d) Rate Filing: Revisions to Market-Based Rate Tariff and Requests for Waivers to be effective 6/18/2019.

Filed Date: 6/17/19.

Accession Number: 20190617-5193.

Comments Due: 5 p.m. ET 7/8/19.

Docket Numbers: ER19-2186-000.

Applicants: High Plains Ranch II, LLC.

Description: § 205(d) Rate Filing: Revisions to Market-Based Rate Tariff and Requests for Waivers to be effective 6/18/2019.

Filed Date: 6/17/19.

Accession Number: 20190617-5195.

Comments Due: 5 p.m. ET 7/8/19.

Docket Numbers: ER19-2187-000.

Applicants: TransCanyon DCR, LLC.

Description: Compliance filing: Formula Rate Second Compliance Filing on ADIT to be effective 6/27/2019.

Filed Date: 6/17/19.

Accession Number: 20190617-5197.

Comments Due: 5 p.m. ET 7/8/19.

Docket Numbers: ER19-2188-000.

Applicants: Pacific Gas and Electric Company.

Description: Tariff Cancellation: Notice of Termination of Lathrop Irrigation District 60 kV IA (SA 298) to be effective 8/16/2019.

Filed Date: 6/17/19.

Accession Number: 20190617-5201.

Comments Due: 5 p.m. ET 7/8/19.

Docket Numbers: ER19-2189-000.

Applicants: Palmetto Plains Solar Project, LLC.

Description: Baseline eTariff Filing: Application for MBR, Waivers, Blanket Authority, Confidential & Expedited Action to be effective 6/18/2019.

Filed Date: 6/17/19.

Accession Number: 20190617-5202.

Comments Due: 5 p.m. ET 7/8/19.

Docket Numbers: ER19-2190-000.

Applicants: Cubico Palmetto Lessee, LLC.

Description: Baseline eTariff Filing: Application for MBR, Waivers, Blanket Authority, Confidential & Expedited Action to be effective 6/19/2019.

Filed Date: 6/18/19.

Accession Number: 20190618-5001.

Comments Due: 5 p.m. ET 7/9/19.

Docket Numbers: ER19-2191-000.

Applicants: Dominion Energy South Carolina, Inc.

Description: Baseline eTariff Filing: Baseline Power Sales Tariffs and Name Change to be effective 8/16/2019.

Filed Date: 6/18/19.

Accession Number: 20190618-5003.

Comments Due: 5 p.m. ET 7/9/19.

Docket Numbers: ER19-2192-000.

Applicants: Southwest Power Pool, Inc.

Description: § 205(d) Rate Filing: 1891R8 Westar Energy, Inc.—Mulberry NITSA NOA to be effective 9/1/2019.

Filed Date: 6/18/19.

Accession Number: 20190618-5009.

Comments Due: 5 p.m. ET 7/9/19.

Docket Numbers: ER19-2193-000.

Applicants: Wabash Valley Power Association, Inc.

Description: § 205(d) Rate Filing: Amendment to Section 1.8—Optional Co-op Solar Energy Rider to be effective 8/18/2019.

Filed Date: 6/18/19.

Accession Number: 20190618-5010.

Comments Due: 5 p.m. ET 7/9/19.

Docket Numbers: ER19-2194-000.

Applicants: Southwest Power Pool, Inc.

Description: § 205(d) Rate Filing: 1892R8 Westar Energy, Inc.—Robinson NITSA NOA to be effective 9/1/2019.

Filed Date: 6/18/19.

Accession Number: 20190618-5011.

Comments Due: 5 p.m. ET 7/9/19.

Docket Numbers: ER19-2195-000.

Applicants: Southwest Power Pool, Inc.

Description: § 205(d) Rate Filing: 1893R9 Westar Energy, Inc.—Savonburg NITSA NOA to be effective 9/1/2019.

Filed Date: 6/18/19.

Accession Number: 20190618-5015.

Comments Due: 5 p.m. ET 7/9/19.

Docket Numbers: ER19-2196-000.

Applicants: Southwest Power Pool, Inc.

Description: § 205(d) Rate Filing: 1894R8 Westar Energy, Inc.—Vermillion NITSA NOA to be effective 9/1/2019.

Filed Date: 6/18/19.

Accession Number: 20190618-5053.

Comments Due: 5 p.m. ET 7/9/19.

Docket Numbers: ER19-2197-000.

Applicants: Mid-Atlantic Interstate Transmission, LLC, PJM Interconnection, L.L.C.

Description: § 205(d) Rate Filing: MAIT submits 3 ECSAs, Service Agreement Nos. 5273, 5280 and 5337 to be effective 8/20/2019.

Filed Date: 6/18/19.

Accession Number: 20190618-5056.

Comments Due: 5 p.m. ET 7/9/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 18, 2019.
Nathaniel J. Davis, Sr.,
Deputy Secretary.

[FR Doc. 2019-13339 Filed 6-21-19; 8:45 am]

BILLING CODE 6717-01-P